NUCLEAR REGULATORY COMMISSION

[Docket No. 72-11]

Sacramento Municipal Utility District Issuance of Environmental Assessment and Finding of No Significant Impact

The U.S. Nuclear Regulatory Commission (NRC or the Commission) is considering issuance of an exemption, pursuant to 10 CFR 72.7, from the provisions of 10 CFR 72.72(d) to Sacramento Municipal Utility District (SMUD or applicant). The requested exemption would allow SMUD to maintain a single set of spent fuel records at a records storage facility that satisfies the requirements set forth in ANSI/ASME, NQA-1-1983, Supplement 17S-1 and the standards in ANSI N45.2.9-1974, for the Independent Spent Fuel Storage Installation (ISFSI) at the Rancho Seco Nuclear Generating Station (Docket No. 72-11) in Sacramento County, California.

Environmental Assessment (EA)

Identification of Proposed Action

By letter dated December 13, 2000, SMUD requested an exemption from the requirement in 10 CFR 72.72(d) which states in part that, “Records of spent fuel and high level radioactive waste in storage must be kept in duplicate. The duplicate set of records must be kept at a separate location sufficiently remote from the original records that a single event would not destroy both sets of records.” The applicant proposes to store a single set of spent fuel records at a records storage facility that satisfies the requirements set forth in ANSI/ASME, NQA-1-1983, Supplement 17S-1 including the standards in ANSI N45.2.9-1974.

The proposed action before the Commission is whether to grant this exemption pursuant to 10 CFR 72.7.

Need for the Proposed Action

The applicant stated that, pursuant to 10 CFR 72.140(d), the Rancho Seco Quality Manual will be used to satisfy the Quality Assurance (QA) requirements for the ISFSI. The Quality Manual states that QA records are maintained in accordance with commitments to ANSI/ASME, NQA-1-1983, Supplement 17S-1 as well as ANSI N45.2.9-1974. ANSI/ASME NQA-1-1983, Supplement 17S-1 and ANSI N45.2.9-1974 allow for the storage of QA records in a duplicate storage location sufficiently remote from the original records or in a single records storage facility subject to certain provisions designed to protect the records from fire and other adverse conditions. The applicant seeks to provide uniform and consistent recordkeeping procedures and processes for the Rancho Seco Nuclear Generating Station and ISFSI spent fuel records. The applicant states that requiring a separate method of record storage for ISFSI records diverts resources unnecessarily.

ANSI/ASME NQA-1-1983, Supplement 17S-1 and ANSI N45.2.9-1974 provide requirements for the protection of nuclear power plant QA records against degradation. They specify design requirements for use in the construction of record storage facilities when use of a single storage facility is desired. They include specific requirements for protection against degradation mechanisms such as fire, humidity, and condensation. The requirements in ANSI/ASME NQA-1-1983, Supplement 17S-1 and ANSI N45.2.9-1974 have been endorsed by the NRC in Regulatory Guide 1.88, “Collection, Storage and Maintenance of Nuclear Power Plant Quality Assurance Records,” as adequate for satisfying the recordkeeping requirements of 10 CFR Part 50, Appendix B. ANSI/ASME NQA-1-1983, Supplement 17S-1 and ANSI N45.2.9-1974 also satisfy the requirements of 10 CFR 72.72 by providing for adequate maintenance of records regarding the identity and history of the spent fuel in storage. Such records would be subject to and need to be protected from the same types of degradation mechanisms as nuclear power plant QA records.

Environmental Impacts of the Proposed Action

Exemption from the requirement to store ISFSI records at a duplicate facility has no impact on the environment. Storage of records does not change the methods by which spent fuel will be handled and stored at the Rancho Seco Nuclear Generating Station and ISFSI and does not change the amount of any effluents, radiological or non-radiological, associated with the ISFSI.

Alternative to the Proposed Action

Since there are no environmental impacts associated with the proposed action, alternatives are not evaluated other than the no action alternative. The alternative to the proposed action would be to deny approval of the exemption and, therefore, not allow storage of ISFSI spent fuel records at a single qualified record storage facility. However, the environmental impacts of the proposed action and the alternative would be the same.

Agencies and Persons Consulted

On January 23, 2001, California State official, Steven Hsu of the Radiological Health Branch of the California Department of Health, was contacted regarding the environmental assessment for the proposed action and had no comments.

Finding of No Significant Impact

The environmental impacts of the proposed action have been reviewed in accordance with the requirements set forth in 10 CFR part 51. Based upon the foregoing EA, the Commission finds that the proposed action of granting an exemption from 10 CFR 72.72(d), so that SMUD may store spent fuel records at the ISFSI in a single record storage facility which meets the requirements of ANSI/ASME, NQA-1-1983, Supplement 17S-1 and the standards in ANSI N45.2.9-1974, will not significantly impact the quality of the human environment. Accordingly, the Commission has determined that an environmental impact statement for the proposed exemption is not necessary.

The request for exemption was docketed under 10 CFR Part 72, Docket 72-11. For further details with respect to this action, see the exemption request dated December 13, 2000, which is available for public inspection at the Commission's Public Document Room, One White Flint North Building, 11555 Rockville Pike, Rockville, Maryland 20852, or from the publicly available records component of NRC's Agencywide Document Access and Management System (ADAMS).

ADAMS is accessible from the NRC web site at http://www.nrc.gov/NRC/ADAMS/index.html (the Public Electronic Reading Room).

Dated at Rockville, Maryland, this 14th day of February 2001.
For the Nuclear Regulatory Commission.
E. William Brach,
Director, Spent Fuel Project Office, Office of Nuclear Material Safety and Safeguards.

[FR Doc. 01-4630 Filed 2-23-01; 8:45 am]

BILLING CODE 7590-01-P